DEPARTMENT OF HEALTH AND HUMAN SERVICES

National Institutes of Health

Center for Scientific Review; Amended Notice of Meeting

Notice is hereby given of a change in the meeting of the Macromolecular Structure and Function D Study Section, February 7, 2008, 8 a.m. to February 8, 2008, 6 p.m., Hilton Long Beach & Executive Meeting Center, 701 West Ocean Boulevard, Long Beach, CA, 90831 which was published in the Federal Register on January 9, 2008, 73 FR 1637-1639.

The meeting will be held one day only February 7, 2008, from 8 a.m. to 6 p.m. The meeting location remains the same. The meeting is closed to the public.

Dated: January 15, 2008.
Jennifer Spaeth,
Director, Office of Federal Advisory Committee Policy.

[FR Doc. 08-225 Filed 1-22-08; 8:45 am]

BILLING CODE 4140-01-M